DEPARTMENT OF COMMERCE

[I.D. 062702F]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Coastal Resource Management Customer Survey.

Form Number(s): None.

OMB Approval Number: 0648-0308.

Type of Request: Regular submission.

Burden Hours: 788.

Number of Respondents: 1,575.

Average Hours Per Response: 30 minutes.

Needs and Uses: This survey will be used by the NOAA Coastal Services Center to obtain information from its customers about their natural resource management issues, their information needs, and their technological capabilities to make quality improvements to our products and services. The respondents will be from the coastal natural resource management community.

Affected Public: State, Local, or Tribal Government.

Frequency: One-time.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: June 26, 2002.
Madeleine Clayton,
Departmental Paperwork Clearance Officer, Office of the Chief Information Officer.

[FR Doc. 02-16714 Filed 7-2-02; 8:45 am]

BILLING CODE 3510-08-S